ENVIRONMENTAL PROTECTION AGENCY

[ER-FRL-9036-8]

Environmental Impact Statements; Notice of Availability

Responsible Agency: Office of Federal Activities, General Information (202) 564-7146 or http://www2.epa.gov/nepa/.

Weekly receipt of Environmental Impact Statements (EIS)

Filed 12/18/2017 Through 12/22/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170244, Draft, USFS, OR, Trout Creek, Comment Period Ends: 02/12/2018, Contact: Joan Schmidgall (541) 367-3809.

EIS No. 20170245, Draft, USFS, WI, Townsend Project, Comment Period Ends: 02/12/2018, Contact: Marilee Houtler (715) 276-6333.

EIS No. 20170246, Draft, BR, CA, Yolo Bypass Salmonid Habitat Restoration & Fish Passage, Comment Period Ends: 02/15/2018, Contact: Ben Nelson (916) 414-2424.

EIS No. 20170247, Final, FHWA, NC, Complete 540—Triangle Expressway Southeast Extension, Review Period Ends: 02/01/2018, Contact: Jennifer Harris (919) 707-2704.

EIS No. 20170248, Draft, DC, AK, Mertarvik Infrastructure Development Nelson Island, Alaska Comment Period Ends: 02/13/2018, Contact: Don Antrobus, (907) 271-3500.

Dated: December 22, 2017.
Kelly Knight,
Director, NEPA Compliance Division, Office of Federal Activities.

[FR Doc. 2017-28116 Filed 12-28-17; 8:45 am]

BILLING CODE 6560-50-P